DEPARTMENT OF COMMERCE

International Trade Administration

[A-570-831]

Fresh Garlic From the People's Republic of China: Notice of Extension of Time Limit for the Preliminary Results of Antidumping Duty New Shipper Review and the Preliminary Results of Antidumping Duty Administrative Review

AGENCY: Import Administration, International Trade Administration, Department of Commerce.

ACTION: Notice of extension of time limit for the preliminary results of antidumping duty new shipper review and the preliminary results of antidumping duty administrative review.

SUMMARY: The Department of Commerce is extending the time limit for the preliminary results of the new shipper review and the preliminary results of the administrative review of the antidumping duty order on fresh garlic from the People's Republic of China. The new shipper review covers one exporter, Clipper Manufacturing Company Ltd. The period of review is June 1, 2000, through November 30, 2000.¹ The administrative review covers six manufacturers/exporters, Fook Huat Tong Kee Pte., Ltd., and Taian Fook Huat Tong Kee Foods Co., Ltd. (collectively FHTK), Rizhao Hanxi Fisheries and Comprehensive Development Co., Ltd. (Rizhao), Zhejiang Materials Industry (Zhejiang), and Wo Hing (H.K.) Trading Co. (Wo Hing). The period of review for the administrative review is November 1, 1999, through October 31, 2000.

¹ The period of review for the new shipper review was established in accordance with § 351.214(g)(1)(ii)(B) of our regulations.

EFFECTIVE DATE: August 9, 2001.

FOR FURTHER INFORMATION CONTACT: Hermes Pinilla or Edythe Artman, AD/CVD Enforcement, Import Administration, International Trade Administration, U.S. Department of Commerce, 14th Street and Constitution Avenue, N.W., Washington, D.C. 20230; telephone: (202) 482-3477 or (202) 482-3931, respectively.

The Applicable Statute

Unless otherwise indicated, all citations to the statute are references to the provisions effective January 1, 1995, the effective date of the amendments made to the Tariff Act of 1930 (the Act) by the Uruguay Round Agreements Act. In addition, unless otherwise indicated, all citations to the Department of Commerce's (the Department's) regulations are to 19 CFR part 351 (2000).

Background

On November 8, 2000, the Department published a notice of opportunity to request an administrative review of the antidumping duty order on fresh garlic from the People's Republic of China (PRC) (65 FR 66965). On November 27, 2000, Jinan Import and Export Co. (Jinan) requested a review of exports of its merchandise to the United States. On November 30, 2000, Fook Huat Tong Kee Pte., Ltd., and Taian Fook Huat Tong Kee Foods Co., Ltd. (collectively FHTK), requested a review of their exports to the United States. On the same day, the petitioner, the Fresh Garlic Producers Association and its individual members, requested reviews of the following producers and/or exporters of the subject merchandise: FHTK; Rizhao Hanxi Fisheries and Comprehensive Development Co., Ltd. (Rizhao); Zhejiang Materials Industry (Zhejiang); Wo Hing (H.K.) Trading Co. (Wo Hing); Feidong; and an unidentified producer or exporter responsible for a shipment of fresh garlic imported by Good Time Produce, Inc. We published a notice of initiation of administrative review on December 28, 2000. See Fresh Garlic From the People's Republic of China: Initiation of Administrative Antidumping Duty Review, 65 FR 82322 (Jan. 3, 2001). On November 29, 2000, as amended on December 8, 2000, a legal representative submitted a request for a new shipper review in accordance with section 751(a)(2)(B) of the Act and § 351.214(c) of the Department's regulations on behalf of Clipper Manufacturing Ltd. (Clipper). On January 3, 2001, we initiated a new shipper review for Clipper. See Fresh Garlic From the People's Republic of China: Initiation of New Shipper Antidumping Duty Review, 66 FR 350 (Jan. 3, 2001). On February 9, 2001, the petitioner submitted a request for alignment of the new shipper and administrative reviews. Clipper responded to the Department that it did not object to the petitioner's request. See Memorandum to the File regarding alignment of new shipper and administrative reviews (Feb. 19, 2001). Therefore, we are conducting these two reviews simultaneously.

Extension of Time Limits for Preliminary Results for Administrative and New Shipper Reviews

A number of complex factual and legal questions related to the calculation of dumping margins have arisen in the administrative and new shipper reviews. Therefore, it is not practicable to complete these reviews within the time limits mandated by section 751(a)(3)(A) of the Act. As a result, we are extending the time limit for the preliminary results regarding these reviews to August 17, 2001.

Dated: August 2, 2001.
Richard W. Moreland,
Deputy Assistant Secretary for AD/CVD Enforcement I.

[FR Doc. 01-20018 Filed 8-8-01; 8:45 am]

BILLING CODE 3510-DS-P